FEDERAL EMERGENCY MANAGEMENT AGENCY

44 CFR Part 67

Final Flood Elevation Determinations

AGENCY: Federal Emergency Management Agency (FEMA).

ACTION: Final rule.

SUMMARY: Base (1% annual chance) flood elevations and modified base flood elevations are made final for the communities listed below. The base flood elevations and modified base flood elevations are the basis for the floodplain management measures that each community is required either to adopt or to show evidence of being already in effect in order to qualify or remain qualified for participation in the National Flood Insurance Program (NFIP).

EFFECTIVE DATE: The date of issuance of the Flood Insurance Rate Map (FIRM) showing base flood elevations and modified base flood elevations for each community. This date may be obtained by contacting the office where the FIRM is available for inspection as indicated in the table below.

ADDRESSES: The final base flood elevations for each community are available for inspection at the office of the Chief Executive Officer of each community. The respective addresses are listed in the table below.

FOR FURTHER INFORMATION CONTACT: Matthew B. Miller, P.E., Chief, Hazards Study Branch, Mitigation Directorate, 500 C Street SW., Washington, DC 20472, (202) 646-3461, or (e-mail) matt.miller@fema.gov.

SUPPLEMENTARY INFORMATION: The Federal Emergency Management Agency makes final determinations listed below of base flood elevations and modified base flood elevations for each community listed. The proposed base flood elevations and proposed modified base flood elevations were published in newspapers of local circulation and an opportunity for the community or individuals to appeal the proposed determinations to or through the community was provided for a period of ninety (90) days. The proposed base flood elevations and proposed modified base flood elevations were also published in the Federal Register.

This final rule is issued in accordance with Section 110 of the Flood Disaster Protection Act of 1973, 42 U.S.C. 4104, and 44 CFR part 67.

FEMA has developed criteria for floodplain management in floodprone areas in accordance with 44 CFR part 60.

Interested lessees and owners of real property are encouraged to review the proof Flood Insurance Study and FIRM available at the address cited below for each community.

The base flood elevations and modified base flood elevations are made final in the communities listed below. Elevations at selected locations in each community are shown.

National Environmental Policy Act. This rule is categorically excluded from the requirements of 44 CFR part 10, Environmental Consideration. No environmental impact assessment has been prepared.

Regulatory Flexibility Act. The Associate Director for Mitigation certifies that this rule is exempt from the requirements of the Regulatory Flexibility Act because final or modified base flood elevations are required by the Flood Disaster Protection Act of 1973, 42 U.S.C. 4104, and are required to establish and maintain community eligibility in the NFIP. No regulatory flexibility analysis has been prepared.

Regulatory Classification. This final rule is not a significant regulatory action under the criteria of section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This proposed rule meets the applicable standards of section 2(b)(2) of Executive Order 12778.

List of Subjects in 44 CFR Part 67

Administrative practice and procedure, Flood insurance, Reporting and recordkeeping requirements.

Accordingly, 44 CFR part 67 is amended to read as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | #Depth in feet above ground. *Elevation in feet (NGVD).
ARIZONA
Yavapai County and Incorporated Areas (FEMA Docket No. B-7404)
Blue Tank Wash:
Just upstream of Yavapai-Marcicopa County Boundary | *2,176
Approximately 200 feet upstream of Yavapai-Maricopa County Boundary | *2,179
Powerhouse Wash Tributary 1:
Just upstream of Yavapai-Maricopa County Boundary | *2,262
Approximately 800 feet upstream of Yavapai-Maricopa County Boundary | *2,297
Powerhouse Wash Tributary 2:
Just upstream of Yavapai-Maicopa County Boundary | *2,280
Approximately 300 feet upstream of Yavapai-Maricopa County Boundary | *2,286
Sols Wash:
Just downstream of Atchison, Topeka and Santa Fe Railroad | *2,364
Approximately 1,500 feet upstream of Atchison, Topeka and Santa Fe Railway | *2,401
Wash P:
Just upstream of Yavapai-Maricopa County Boundary | *2,131
Approximately 600 feet upstream of Yavapai-Maricopa County Boundary | *2,147
Verde River:
Just downstream of North 5th Street | *3,297
Approximately 800 feet north of Yavapai Street | *3,303
Maps for the unincorporated areas of Yavapai County are available for inspection at 500 Marina Street, Prescott, Arizona 86301.
Maps for the Town of Cottonwood are available for inspection at the Public Works Office, 1490 West Mingus Avenue, Cottonwood, Arizona.
ARKANSAS
Mountain Home (City), Baxter County (FEMA Docket No. B-7404)
Hicks Creek:
Approximately 3,000 feet upstream of Hicks Road | *682
Just upstream of Arkansas Highway 201 | *833
Indian Creek:
At confluence with Hicks Creek | *753
At Bradley Street | *819
Maps are available at 720 South Hickory, Mountain Home, Arkansas.
CALIFORNIA
Madera County (Unincorporated Areas) (FEMA Docket No. B-7404)
San Josquin River:
Just upstream of State Highway 99 | *245
Just downstream of Friant Dam | *329
Maps are available for inspection at 209 West Yosemite Avenue, Madera, California.
COLORADO
Silver Plume (Town), Clear Creek County (FEMA Docket No, B-7404)
Clear Creek:
Approximately 800 feet downstream of Interstate 70 | *9,002
Approximately 300 feet upstream of Burleigh Street extended | *9,142
Maps are available for inspection at Town Hall, 487 Main Street, Silver Plume, Colorado.
———
Summit County (Unincorporated Areas) (FEMA Docket No. B-7404)
Willow Creek:
At confluence with Blue River | *8,674
Approximately 400 feet upstream of Ranch Road | *8,864
Blue River:
Approximately 3,400 feet downstream of Winegard Road | *8,565
Approximately 2,400 feet upstream of Interstate 70 | *8,777
Maps are available for inspection at 0037 Summit County Road, #1005, Town of Frisco, Colorado.
IOWA
Akron (City), Plymouth County (FEMA Docket No. B-7404)
Big Sioux River:
Approximately 400 feet west of the intersection of South Street and Route 12 | *1,136
Just upstream of Route 48 | *1,144
Maps are available for inspection at the Akron City Hall, 220 Reed Street, Akron, Iowa 51001.
———
Plymouth County (Unincorporated Areas) (FEMA Docket No. B-7404)
Big Sioux River:
Just upstream of the Plymouth and Woodbury County boundary | *1,111
Approximately 1,000 feet downstream of Route 48 | *1,142
Maps are available for inspection at the Plymouth County Courthouse, 215 - 4th Avenue, Southeast, LeMars, Iowa 51031.
———
Sioux City (City), Woodbury County (FEMA Docket No. B-7404)
Big Sioux River:
Approximately 3,000 feet downstream of intersection of Riverside Boulevard and Interstate 29 | *1,090
Just upriver of Military Road | *1,103
Just downriver of Interstate 29 | *1,094
Just downstream of the Plymouth and Woodbury County boundary | *1,110
Maps are available for inspection at the City of Sioux City City Hall, 520 Pierce Street, Sioux City, Iowa 51107.
———
Westfield (City), Plymouth County (FEMA Docket No. B-7404)
Big Sioux River:
Approximately 300 feet downstream of the confuence of Westfield Creek | *1,123
Approximately 4,500 feet upstream of the confuence of Westfield Creek | *1,124
Maps are available for inspection at 233 Union Street, Westfield, Iowa 51062.
IDAHO
Moscow (City), Latah County (FEMA Docket No. B-7404)
Paradise Creek:
Approximately 1,700 feet downstream of Burlington Northern Railroad | *2,530
Approximately 350 feet upstream of Park Footbridge | *2,613
Paradise Creek (University Overflow):
Approximately 1,200 feet downstream of Rayburn Street | *2,552
Approximately 1,500 feet upstream of Third Street | *2,561
Paradise Creek (Mountain View Road Overflow):
Approximately 2,000 feet downstream of Harold Avenue | *2,584
Just downstream of Mountain View Road | *2,594
Maps are available for inspection at 122 East 4th Street, Moscow, Idaho.
———
Latah County (Unincorporated Areas) (FEMA Docket No. B-7404)
Paradise Creek:
Approximately 1,200 feet downstream of Joseph Street | *2,586
Approximately 1,600 feet downstream of Darby Road | *2,614
Maps are available for inspection at 522 South Adams, Moscow, Idaho.
NEVADA
Washoe County (Unincorporated Areas) (FEMA Docket No. B-7407)
Galena Creek:
Approximately 12,000 feet downstream of Joy Lake Road | #3
Approximately 1,950 feet downstream of Joy Lake Road | *5,840
Approximately 1,000 feet upstream of Joy Lake Road | *6,830
At Mount Rose Highway | #2
Jones Creek:
At confluence with Galena Creek | #3
At Callahan Ranch Road | *5,450
Approximately 2,600 feet upstream of Bordeaux Drive | *5,888
At Mount Rose Highway | #1
Maps are available for inspection at Washoe County Engineering, 1001 E. 9th Street, Reno, Nevada.
NEW MEXICO
Portales (City), Roosevelt County (FEMA Docket No. B-7404)
Globe Ditch:
Approximately 400 feet downstream of confluence of 17th and 18th Streets shallow flooding | +3,998
At confluence of 17th and 18th Streets shallow flooding | +3,999
17th and 18th Streets shallow Flooding:
Area bounded by South Main Avenue, West 17th Street, South Avenue A, and West 18th Street | +4,000
Area bounded by South Avenue F, West 17th Street, South Avenue G, and West 18th Street | +4,004
Flooding throughout University and Downtown Areas:
Area bounded by South Main Avenue, West 10th Street, South Avenue A, and West 11th Street | +4,002
Area bounded by South Avenue B, West Commercial Street, South Avenue C, and West First Street | +4,009
Ponding Area:
Upstream of Burlington Northern Santa Fe Railroad from Boulder Avenue to southwest of University Avenue | +4,011
Ponding Area:
At the intersection of Industrial Drive and West 18th Street | +4,004
Approximately 700 feet west of the intersection of the Burlington Northern Santa Fe Railroad and West 18th Street | +4,004
Ponding Area:
Approximately 4,000 feet northwest of the Intersection of Industrial Drive and West 18th Street | +4,010
+Elevation in feet (NAVD)
Maps are available for inspection at City Hall, 100 West First Street, Portales, New Mexico.
———
Red River (Town), Toas County (FEMA Docket No. B-7407)
Bitter Creek:
Approximately 220 feet downstream of East River Street | *8,654
Approximately 760 feet upstream of East High Street | *8,691
Mallette Creek:
Approximately 340 feet downstream of West Main Street | *8,632
Approximately 180 feet downstream of Mallette Canyon Park Road | *8,656
Red River:
Approximately 100 feet downstream of High Cost Trail | *8,608
Approximately 1,500 feet upstream of Fishing Pond Bridge | *8,778
Maps are available for inspection at 100 East Main Street, Red River, New Mexico.

(Catalog of Federal Domestic Assistance No. 83.100, “Flood Insurance.”)

Dated: December 6, 2000.
Michael J. Armstrong,
Associate Director for Mitigation.

[FR Doc. 00-32212 Filed 12-20-00; 8:45 am]

BILLING CODE 6718-04-P